FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202)-523-5793 or tradeanalysis@fmc.gov.

Agreement No.: 011426-044.

Title: West Coast of South America Discussion Agreement.

Parties: APL Co. Pte Ltd.; Compania Chilena de Navigacion Interoceanica, S.A.; Compania Sud Americana de Vapores, S.A.; Frontier Liner Services, Inc.; Hamburg-Süd; King Ocean Services Limited, Inc.; Maruba S.C.A.; Seaboard Marine Ltd.: South Pacific Shipping Company, Ltd.; and Trinity Shipping Line.

Filing Party: Wayne R. Rohde, Esq.; Sher & Blackwell LLP: 1850 M Street, NW., Suite 900, Washington, DC 20036.

Synopsis: The amendment would add A.P. Moller-Maersk A/S as a party to the agreement.

Agreement No.: 201162-003.

Title: NYSA-ILA Assessment Agreement.

Parties: New York Shipping Association, Inc. and the International Longshoremen's Association, AFL-CIO for the Port of New York and New Jersey.

Filing Parties: Donato Caruso, Esq.; The Lambos Firm; 29 Broadway, 9th Floor, New York, NY 10006; and Andre Mazzola, Esq., Marrinan & Mazzola Mardon, P.C. 26 Broadway, 17th Floor , New York, NY 10004.

Synopsis: The amendment phases out preferential treatment to certain assessment categories as of August 1, 2009.

Agreement No.: 201204.

Title: Port of Houston Authority and Houston Marine Terminal Operators/Freight Handlers Agreement.

Parties: Port of Houston Authority; Ceres Gulf, Inc.; Chaparral Stevedoring Company of Texas, Inc.; CT Stevedoring, Inc. dba Cooper/T. Smith Stevedoring Co.; Ports America Texas, Inc.; GP Terminals LLC; Shippers Stevedoring Company; and SSA Gulf, Inc.

Filing Party: Erik A. Eriksson, Esq.; Port of Houston Authority and seven affiliated freight handlers to discuss and voluntarily agree on matters of common interest at the Port of Houston.

Dated: July 24, 2009.
By Order of the Federal Maritime Commision.
Tanga FitzGibbon,
Assistant Secretary.

[FR Doc. E9-18205 Filed 7-28-09; 8:45 am]

BILLING CODE P